DEPARTMENT OF COMMERCE

International Trade Administration

A-570-878

Saccharin from the People's Republic of China: Notice of Partial Rescission of Antidumping Duty Administrative Review

AGENCY: Import Administration, International Trade Administration, Department of Commerce.

SUMMARY: In response to requests from interested parties, the Department of Commerce (“the Department”) initiated an administrative review of the antidumping duty order on saccharin from the People's Republic of China (“PRC”), covering the period July 1, 2005, through June 30, 2006. Based on the withdrawal of the requests for review with respect to two companies, we are rescinding this administrative review, in part.

EFFECTIVE DATE: December 26, 2006.

FOR FURTHER INFORMATION CONTACT: Jennifer Moats, AD/CVD Operations, Office 8, Import Administration, Room 1870, International Trade Administration, U.S. Department of Commerce, 14th Street and Constitution Ave, NW, Washington, DC 20230; telephone: (202) 482-5047.

SUPPLEMENTARY INFORMATION:

Background

On July 3, 2006, the Department published a notice of opportunity to request an administrative review of the antidumping duty order on saccharin from the PRC. See Antidumping or Countervailing Duty Order, Finding, or Suspended Investigation; Opportunity To Request Administrative Review, 71 FR 37890, (July 3, 2006). We received timely requests for review from Amgal Chemical Products (1989) Ltd. (“Amgal”), Shanghai Fortune Chemical Company, Ltd. (“Shanghai Fortune”), and Suzhou Fine Chemical Co. Group Ltd. (“Suzhou”).

On August 30, 2006, the Department published a notice of the initiation of the administrative review of the antidumping duty order on saccharin from the PRC for the period July 1, 2005, through June 30, 2006. See Initiation of Antidumping and Countervailing Duty Administrative Reviews and Request for Revocation in Part, 71 FR 51573, (August 30, 2006). On October 16, 2006, Suzhou withdrew its request for an administrative review. On November 14, 2006, Amgal withdrew its request for an administrative review.

Rescission of Review

The Department's regulations, at 19 CFR 351.213(d)(1), provide that the Department will rescind an administrative review if the party that requested the review withdraws its request for review within 90 days of the date of publication of the notice of initiation of the requested review, or withdraws its request at a later date if the Department determines that it is reasonable to extend the time limit for withdrawing the request. Suzhou and Amgal, the only parties to request a review for these companies, respectively, withdrew their requests within the 90-day limit. Therefore, we are rescinding these reviews of the antidumping duty order on saccharin from the PRC covering the period July 1, 2005, through June 30, 2006, with respect to Suzhou and Amgal.

Assessment

The Department will instruct U.S. Customs and Border Protection (“CBP”) to assess antidumping duties on all appropriate entries. For the companies for which these reviews are rescinded, antidumping duties shall be assessed at rates equal to the cash deposit of estimated antidumping duties required at the time of entry, or withdrawal from warehouse, for consumption, in accordance with 19 CFR 351.212(c)(1)(i). The Department intends to issue instructions to CBP 15 days after the date of publication of this notice.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: December 18, 2006.
Stephen J. Claeys,
Deputy Assistant Secretary for Import Administration.

[FR Doc. E6-22080 Filed 12-22-06; 8:45 am]

BILLING CODE 3510-DS-S